DEPARTMENT OF ENERGY

Federal Energy Regulatory Commission

[Docket No. EL03-123-001, et al.]

Richard Blumenthal, Attorney General, et al.; Electric Rate and Corporate Filings

November 12, 2003.

The following filings have been made with the Commission. The filings are listed in ascending order within each docket classification.

1. Richard Blumenthal, Attorney General of the State of Connecticut, and the Connecticut Department of Public Utility Control v. NRG Power Marketing Inc., Connecticut Light and Power Company

[Docket Nos. EL03-123-001, EL03-134-000, and EL03-129-000]

Take notice that on November 7, 2003, The Connecticut Light and Power Company, Richard Blumenthal, the Attorney General for the State of Connecticut, the Connecticut Department of Public Utility Control, the Connecticut Office of Consumer Counsel, the Official Committee of Unsecured Creditors for NRG Energy, Inc. and its Debtor Subsidiaries, and NRG Power Marketing Inc. filed a settlement agreement and explanatory statement addressing the terms by which the parties to such settlement agreement shall resolve litigation and by which NRG Power Marketing, Inc. shall provide service to The Connecticut Light and Power Company.

Initial Comment Date: November 18, 2003.

Reply to Comments: November 21, 2003.

2. ISO New England Inc.

[Docket No. ER04-121-000]

Take notice that on October 31, 2003, ISO New England Inc. (the ISO) made a filing under Section 205 of the Federal Power Act of revised tariff sheets for recovery of its administrative costs for 2004. The ISO requests that these sheets be allowed to go into effect on January 1, 2004.

The ISO states that copies of the transmittal letter were served upon each non-Participant entity that is a customer under the NEPOOL Open Access Transmission Tariff, as well as on the governors and utility regulatory agencies of the six New England States, and NECPUC. ISO further states that NEPOOL Participants were served with the entire filing electronically and the filing is posted on the ISO's Web site (http://www.iso-ne.com).

Comment Date: November 21, 2003.

3. Bangor Hydro-Electric Company, Central Maine Power Company, NSTAR Electric & Gas Corporation, on behalf of its affiliates: Boston Edison Company, Commonwealth Electric Company, Cambridge Electric Light Company, Canal Electric Company, New England Power Company; Northeast Utilities Service Company, on behalf of its operating company affiliates: The Connecticut Light and Power Company, Western Massachusetts Electric Company, Public Service Company of New Hampshire, Holyoke Power and Electric Company, Holyoke Water Power Company, The United Illuminating Company, Vermont Electric Power Company, Central Vermont Public Service Company, and Green Mountain Power Corporation

[Docket No. ER04-157-000]

Take notice that on November 4, 2003, Bangor Hydro-Electric Company, Central Maine Power Company, NSTAR Electric & Gas Corporation, New England Power Company, Northeast Utilities Service Company, The United Illuminating Company, Vermont Electric Power Company, Central Vermont Public Service Corporation, and Green Mountain Power Corporation (collectively, the New England Transmission Owners) filed, pursuant to section 205 of the Federal Power Act, a request for approval of a return on common equity component of the regional and local transmission rates under the Regional Transmission Organization for New England (RTO-NE) open access transmission tariff.

The New England Transmission Owners state that they are serving a copy of this filing on the Governors and utility regulatory commissions of Connecticut, Maine, Massachusetts, New Hampshire, Rhode Island, and Vermont. The New England Transmission Owners further state that a copy of the filing is being served electronically on Participants in the New England Power Pool (NEPOOL and the filing has been electronically posted on the RTO-NE Web site

(http://www.rto-ne.com/) under the heading “Legal Filings,” and those New England transmission customers (including customers under the local tariffs of the New England Transmission Owners) that are not Participants in NEPOOL have been provided notice of such posting. The New England Transmission Owners state that they will provide a hard copy of this filing to any interested party upon request; to the extent that such notice procedures do not technically comply with any of the service requirements set forth in the Commission's regulations, the New England Transmission Owners request waiver of such requirements to permit service of this filing in the manner described above.

Comment Date: December 1, 2003.

4. ISO New England Inc., Bangor Hydro-Electric Company, Central Maine Power Company, NSTAR Electric & Gas Corporation, on behalf of its affiliates: Boston Edison Company, Commonwealth Electric Company, Cambridge Electric Light Company, Canal Electric Company, New England Power Company, Northeast Utilities Service Company, on behalf of its operating company affiliates: The Connecticut Light and Power Company, Western Massachusetts Electric Company, Public Service Company of New Hampshire, Holyoke Power and Electric Company, Holyoke Water Power Company, The United Illuminating Company, and Vermont Electric Power Company

[Docket Nos. RT04-2-000 and ER04-116-000]

Take notice that on October 31, 2003, ISO New England Inc., Bangor Hydro-Electric Company, Central Maine Power Company, NSTAR Electric & Gas Corporation, New England Power Company, Northeast Utilities Service Company, The United Illuminating Company and Vermont Electric Power Company (collectively, Filing Parties) filed, pursuant to Section 205 of the Federal Power Act and in accordance with Order No. 2000, a request for approval of a regional transmission organization for New England.

The Filing Parties states that they are serving a copy of the request on the Governors and utility regulatory commissions of Connecticut, Maine, Massachusetts, New Hampshire, Rhode Island and Vermont, and New England transmission customers that are not participants in the New England Power Pool (NEPOOL). Filing Parties further state that a copy of the request is being served electronically on the NEPOOL Participants and a copy is being posted on the website of ISO New England Inc.

Comment Date: December 1, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E3-00337 Filed 11-20-03; 8:45 am]

BILLING CODE 6717-01-P